OFFICE OF MANAGEMENT AND BUDGET

Fiscal Year 2014 Cost of Hospital and Medical Care Treatment Furnished by the Department of Defense Medical Treatment Facilities; Certain Rates Regarding Recovery From Tortiously Liable Third Persons

AGENCY: Executive Office of the President, Office of Management and Budget.

ACTION: Notice.

SUMMARY: By virtue of the authority vested in the President by Section 2(a) of Pub. B. 87-603 (76 Stat. 593; 42 U.S.C. 2652), and delegated to the Director of the Office of Management and Budget by the President through Executive Order No. 11541 of July 1, 1970, the rates referenced below are hereby established. These rates are for use in connection with the recovery from tortiously liable third persons for the cost of inpatient medical services furnished by military treatment facilities through the Department of Defense (DoD). The rates have been established in accordance with the requirements of OMB Circular A-25, requiring reimbursement of the full cost of all services provided. The FY14 inpatient medical rates referenced are effective upon publication of this notice in the Federal Register and will remain in effect until further notice. Previously published outpatient medical and dental, and cosmetic surgery rates remain in effect until further notice. Pharmacy rates are updated periodically. A full disclosure of the rates is posted on DoD's Uniform Business Office Web site: http://www.tricare.mil/ocfo/mcfs/ubo/mhs_rates.cfm.

Brian C. Deese,
Deputy Director.

[FR Doc. 2014-13687 Filed 6-11-14; 8:45 am]

BILLING CODE P